DEPARTMENT OF ENERGY

Federal Energy Regulatory Commission

[Docket No. CP18-548-000]

Eastern Shore Natural Gas Company; Notice of Intent To Prepare an Environmental Assessment for the Proposed Del-Mar Energy Pathway Project, Request for Comments on Environmental Issues, Notice of Public Scoping Session, and Notice of Onsite Review

The staff of the Federal Energy Regulatory Commission (FERC or Commission) will prepare an environmental assessment (EA) that will discuss the environmental impacts of the Del-Mar Energy Pathway Project involving construction and operation of facilities by Eastern Shore Natural Gas Company (Eastern Shore) in Kent and Sussex Counties, Delaware, and Wicomico and Somerset Counties, Maryland. The Commission will use this EA in its decision-making process to determine whether the project is in the public convenience and necessity.

This notice announces the opening of the scoping process the Commission will use to gather input from the public and interested agencies about issues regarding the project. The National Environmental Policy Act (NEPA) requires the Commission to take into account the environmental impacts that could result from its action whenever it considers the issuance of a Certificate of Public Convenience and Necessity. NEPA also requires the Commission to discover concerns the public may have about proposals. This process is referred to as “scoping.” The main goal of the scoping process is to focus the analysis in the EA on the important environmental issues. By this notice, the Commission requests public comments on the scope of the issues to address in the EA. To ensure that your comments are timely and properly recorded, please submit your comments so that the Commission receives them in Washington, DC on or before 5:00 pm Eastern Time on December 3, 2018.

You can make a difference by submitting your specific comments or concerns about the project. Your comments should focus on the potential environmental effects, reasonable alternatives, and measures to avoid or lessen environmental impacts. Your input will help the Commission staff determine what issues they need to evaluate in the EA. Commission staff will consider all filed comments during the preparation of the EA.

If you sent comments on this project to the Commission before the opening of this docket on September 14, 2018, you will need to file those comments in Docket No. CP18-548-000 to ensure they are considered as part of this proceeding.

This notice is being sent to the Commission's current environmental mailing list for this project. State and local government representatives should notify their constituents of this proposed project and encourage them to comment on their areas of concern.

If you are a landowner receiving this notice, a pipeline company representative may contact you about the acquisition of an easement to construct, operate, and maintain the proposed facilities. The company would seek to negotiate a mutually acceptable easement agreement. You are not required to enter into an agreement. However, if the Commission approves the project, that approval conveys with it the right of eminent domain. Therefore, if you and the company do not reach an easement agreement, the pipeline company could initiate condemnation proceedings in court. In such instances, compensation would be determined by a judge in accordance with state law.

Eastern Shore provided landowners with a fact sheet prepared by the FERC entitled “An Interstate Natural Gas Facility On My Land? What Do I Need To Know?” This fact sheet addresses a number of typically asked questions, including the use of eminent domain and how to participate in the Commission's proceedings. It is also available for viewing on the FERC website (www.ferc.gov) at https://www.ferc.gov/resources/guides/gas/gas.pdf.

Public Participation

The Commission offers a free service called eSubscription which makes it easy to stay informed of all issuances and submittals regarding the dockets/projects to which you subscribe. These instant email notifications are the fastest way to receive notification and provide a link to the document files which can reduce the amount of time you spend researching proceedings. To sign up go to www.ferc.gov/docs-filing/esubscription.asp.

For your convenience, there are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; a comment on a particular project is considered a “Comment on a Filing”; or

(3) You can file a paper copy of your comments by mailing them to the following address. Be sure to reference the project docket number (CP18-548-000) with your submission: Kimberly D. Bose, Secretary, Federal Energy Regulatory Commission, 888 First Street NE, Room 1A, Washington, DC 20426.

(4) In lieu of sending written comments, the Commission invites you to attend the public scoping session its staff will conduct in the project area, scheduled as follows:

Date and time | Location
Wednesday, November 14, 2018, 4:00-7:30 p.m | Millsboro Town Office Building, 322 Wilson Highway, Millsboro, DE 19966, (302) 934-8171.

The primary goal of this scoping session is to have you identify the specific environmental issues and concerns that should be considered in the EA. Individual verbal comments will be taken on a one-on-one basis with a court reporter. This format is designed to receive the maximum amount of verbal comments, in a convenient way during the timeframe allotted.

The scoping session is scheduled from 4:00 p.m. to 7:30 p.m. Eastern Time. You may arrive at any time after 4:00 p.m. There will not be a formal presentation by Commission staff when the session opens. If you wish to speak, the Commission staff will hand out numbers in the order of your arrival. Comments will be taken until 7:30 p.m. However, if no additional numbers have been handed out and all individuals who wish to provide comments have had an opportunity to do so, staff may conclude the session at 7:00 p.m. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE, Washington, DC 20426, or call (202) 502- 8371. For instructions on connecting to eLibrary, refer to the last page of this notice.

Your scoping comments will be recorded by a court reporter (with FERC staff or representative present) and become part of the public record for this proceeding. Transcripts will be publicly available on FERC's eLibrary system (see below for instructions on using eLibrary). If a significant number of people are interested in providing verbal comments in the one-on-one settings, a time limit of 5 minutes may be implemented for each commenter.

It is important to note that the Commission provides equal consideration to all comments received, whether filed in written form or provided verbally at a scoping session. Although there will not be a formal presentation, Commission staff will be available throughout the scoping session to answer your questions about the environmental review process. Representatives from Eastern Shore will also be present to answer project-specific questions.

Summary of the Proposed Project

Eastern Shore proposes to construct and operate new natural gas pipelines and meter and delivery stations in Kent and Sussex Counties, Delaware and Wicomico and Somerset Counties, Maryland. The Del-Mar Energy Project would provide about 11.8 million cubic feet per day of additional natural gas firm transportation and 2.5 million cubic feet per day of off-peak transportation service to three local distribution companies and one industrial shipper.

The Del-Mar Energy Pathway Project would consist of the construction of the following facilities:

Woodside Loop ²: Kent County, Delaware

² A pipeline loop is a segment of pipe constructed parallel to an existing pipeline to increase capacity.

• 4.9 miles of new 16-inch-diameter pipeline looping the existing Hockessin Line, Canterbury Loop.

East Sussex Extension: Sussex County, Delaware

• 7.39 miles of new 8-inch-diameter mainline extension to the existing Milford Line;

• one aboveground pig launcher and one receiver,³ and aboveground mainline valve; and

³ A “pig” is a tool that the pipeline company inserts into and pushes through the pipeline for cleaning the pipeline, conducting internal inspections, or other purposes.

• one new delivery metering and regulation (M&R) station at the East Sussex Extension terminus.

Millsboro Pressure Control Station Upgrade: Millsboro, Sussex County, Delaware

• 0.35 mile of 10-inch-diameter pipeline extension between the existing Millsboro Pressure Control Station and the existing Milford Line; and

• a dual run pressure control addition to the existing Millsboro pressure control station with modifications to the existing piping, valves, and associated electronic transmitters.

Somerset Extension: Wicomico and Somerset Counties, Maryland

• 6.83 miles of new 10-inch-diameter pipeline extension to the existing Parkesburg Line;

• one aboveground pig launcher and one receiver, and aboveground mainline valve; and

• one new delivery M&R station at the Somerset Extension terminus. The general location of the project facilities is shown in appendix 2.

Land Requirements for Construction

Construction of the proposed facilities would disturb about 223.6 acres of land for the aboveground facilities and the pipeline. Of this, Eastern Shore would maintain about 29 acres for permanent operation of the project's facilities following construction. The remaining acreage would be restored and revert to former uses. About 89.6 percent of the proposed pipeline routes parallel existing pipeline, utility, or road rights-of-way.

The EA Process

The EA will discuss impacts that could occur as a result of the construction and operation of the proposed project under these general headings:

• Geology and soils;

• water resources and wetlands;

• vegetation and wildlife;

• threatened and endangered species;

• cultural resources;

• land use;

• air quality and noise;

• public safety; and

• cumulative impacts.

Commission staff will also evaluate reasonable alternatives to the proposed project or portions of the project, and make recommendations on how to lessen or avoid impacts on the various resource areas.

The EA will present Commission staffs' independent analysis of the issues. The EA will be available in electronic format in the public record through eLibrary ⁴ and the Commission's website (https://www.ferc.gov/industries/gas/enviro/eis.asp). If eSubscribed, you will receive instant email notification when the EA is issued. The EA may be issued for an allotted public comment period. Commission staff will consider all comments on the EA before making recommendations to the Commission. To ensure Commission staff have the opportunity to address your comments, please carefully follow the instructions in the Public Participation section, beginning on page 2.

With this notice, the Commission is asking agencies with jurisdiction by law and/or special expertise with respect to the environmental issues of this project to formally cooperate in the preparation of the EA.⁴ Agencies that would like to request cooperating agency status should follow the instructions for filing comments provided under the Public Participation section of this notice.

⁴ The Council on Environmental Quality regulations addressing cooperating agency responsibilities are at Title 40, Code of Federal Regulations, Part 1501.6.

Consultation Under Section 106 of the National Historic Preservation Act

In accordance with the Advisory Council on Historic Preservation's implementing regulations for section 106 of the National Historic Preservation Act, the Commission is are using this notice to initiate consultation with the applicable State Historic Preservation Offices (SHPO), and to solicit their views and those of other government agencies, interested Indian tribes, and the public on the project's potential effects on historic properties.⁵ Commission staff will define the project-specific Area of Potential Effects (APE) in consultation with the SHPOs as the project develops. On natural gas facility projects, the APE at a minimum encompasses all areas subject to ground disturbance (examples include construction right-of-way, contractor/pipe storage yards, compressor stations, and access roads). The EA for this project will document findings on the impacts on historic properties and summarize the status of consultations under section 106.

⁵ The Advisory Council on Historic Preservation's regulations are at Title 36, Code of Federal Regulations, Part 800. Those regulations define historic properties as any prehistoric or historic district, site, building, structure, or object included in or eligible for inclusion in the National Register of Historic Places.

Environmental Mailing List

The environmental mailing list includes: Federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. Commission staff will update the environmental mailing list as the analysis proceeds to ensure that Commission notices related to this environmental review are sent to all individuals, organizations, and government entities interested in and/or potentially affected by the proposed project.

If the Commission issues the EA for an allotted public comment period, a Notice of Availability of the EA will be sent to the environmental mailing list and will provide instructions to access the electronic document on the FERC's website (www.ferc.gov). If you need to make changes to your name/address, or if you would like to remove your name from the mailing list, please return the attached “Mailing List Update Form” (appendix 3).

Onsite Environmental Review

On November 14 and 15, 2018, the Office of Energy Projects staff will gather data related to the environmental analysis of the proposed Del-Mar Energy Pathway Project. Staff will review the proposed pipeline routes and associated facilities locations. This will assist staff in completing its comparative evaluation of environmental impacts of the proposed project. Viewing of this area is anticipated to be from public access points and Eastern Shore Natural Gas Company right-of-way.

All interested parties planning to attend must provide their own transportation. Those attending should meet at the following location:

East Sussex Extension

• November 14, 2018, 1:30 p.m., Fire Marshal Office, 22705 Park Ave, Georgetown, DE 19947.

Somerset Extension & Woodside Loop

• November 15, 2018, 9:30 a.m., Wicomico Public Library, 122 S Division St., Salisbury, MD 21801.

Additional Information

Additional information about the project is available from the Commission's Office of External Affairs, at (866) 208-FERC, or on the FERC website at www.ferc.gov using the eLibrary link. Click on the eLibrary link, click on “General Search” and enter the docket number in the “Docket Number” field, excluding the last three digits (i.e., CP18-548). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at www.ferc.gov/EventCalendar/EventsList.aspx along with other related information.

Dated: November 2, 2018.
Kimberly D. Bose,
Secretary.

[FR Doc. 2018-24449 Filed 11-7-18; 8:45 am]

BILLING CODE 6717-01-P